DEPARTMENT OF DEFENSE

Department of the Army

Final Legislative Environmental Impact Statement for Training and Public Land Withdrawal Extension, Fort Irwin, California

AGENCY: Department of the Army, Department of Defense.

ACTION: Notice of availability.

SUMMARY: The Department of the Army announces the availability of the Final Environmental Impact Statement (EIS) for Training and Public Land Withdrawal Extension, Fort Irwin, California. In accordance with the National Environmental Policy Act (NEPA), the EIS analyzes the potential environmental effects resulting from modernization of training activities and improvement of training facilities at the National Training Center (NTC) at Fort Irwin, California. The Army also is issuing this notice to inform the public that the EIS will serve as a Legislative Environmental Impact Statement (LEIS) to support the extension of the public land withdrawal for portions of Fort Irwin. The Army will execute a Record of Decision (ROD) for the modernization of training activities and improvement of training facilities portion of the proposed action no sooner than 30 calendar days from the date of publication in the Federal Register of the U.S. Environmental Protection Agency's (EPA's) Notice of Availability of the Final LEIS.

ADDRESSES: The Final LEIS may be viewed at the following locations: (1) Barstow Public Library, 304 East Buena Vista Street, Barstow, CA 92311; (2) Fort Irwin NTC Post Library, 2nd Street Building 331, Fort Irwin, CA 92310; (3) Fort Irwin Environmental Division Directorate of Public Works, 5th Street Building 381, Fort Irwin, CA 92310. The Final LEIS also is available as an electronic file on the Fort Irwin EIS website: https://aec.army.mil/index.php/irwin-nepa-meeting.

FOR FURTHER INFORMATION CONTACT: Fort Irwin Public Affairs Office, Renita Wickes at 760-380-4511, Monday through Friday from 7:30 a.m. to 4:00 p.m., or via email at usarmy.irwin.ntc.mbx.ntc-eis-info-request@army.mil.

SUPPLEMENTARY INFORMATION: Fort Irwin comprises approximately 753,537 acres in the Mojave Desert in San Bernardino County in southern California. The NTC at Fort Irwin provides combined arms training for Brigade Combat Teams (BCTs), including the Army's Stryker BCTs and Armored BCTs. Training also is provided for Marine Corps, Navy, Air Force, Army Reserve, National Guard units, and law enforcement organizations, as well as units stationed at Fort Irwin. Fort Irwin is one of the few places in the world where brigade-size units (5,000+ soldiers) can test their combat readiness due to Fort Irwin's size, design, and terrain.

Fort Irwin's mission is to train visiting Army units and joint, interagency, and multinational partners to fight and win in a complex world. Fort Irwin must also take care of soldiers, civilians, and family members. To achieve this mission, NTC designs and executes training exercises that prepare brigade-level units for operational deployments. The capacity is needed at NTC to conduct up to 12 BCT training rotations per year.

The Final LEIS analyzes the potential effects from the modernization of training, the improvement of training infrastructure, and the extension of the existing public land withdrawal. Training changes are required to support new training doctrine that focuses on large Army formations operating against near-peer adversaries. Improvements need to be made to infrastructure in order to adjust training to reflect evolving weapon systems capabilities and new mission requirements.

Approximately 110,000 acres of Fort Irwin training land is public land that has been withdrawn from all types of appropriation and reserved for military purposes under Public Law 107-107 (2001). This public land withdrawal terminates on December 28, 2026. The Army has identified a continuing military need for the land beyond the termination date and intends to request that the U.S. Congress extend the withdrawal for at least 25 years, or in the alternative, for an indefinite period until there is no longer a military need for the land. The U.S. Army proposed action is to implement changes to training activities and training infrastructure at Fort Irwin. These actions would be undertaken to meet current doctrinal standards, including the National Defense Strategy, Army Regulation (AR) 350-1, Army Training and Leader Development; AR 350-52, Training Support System; AR 350-50, Combat Training Center Program; and AR 200-1, Environmental Protection and Enhancement. Actions proposed include the establishment of, and improvements to, training infrastructure such as trail networks, communications systems, radar systems, training areas, urban training sites, air operations infrastructure, and live-fire ranges.

The Final LEIS analyzes a range of Proposed Mission Change Alternatives, a No Mission Change Alternative, a Withdrawal Extension Alternative, and a No Withdrawal Extension Alternative.

• Mission Change Alternatives: The Mission Change Alternatives represent different magnitudes of change in training and training infrastructure. For Fort Irwin's Western Training Area, the Final LEIS considers a range of medium to heavy-intensity training alternatives.

• No Mission Change Alternative: The No Mission Change Alternative would continue military training at the current level and would result in no modernization of training or improvement of training infrastructure at Fort Irwin. The Army is the decision maker regarding the mission change alternatives.

• No Withdrawal Extension Alternative: The No Withdrawal Extension Alternative would result in portions of the installation land returning to the public domain.

Upon an application by the Army, the Bureau of Land Management (BLM) will file in the Federal Register a separate notice of withdrawal extension application. The Final EIS will be submitted to the U.S. Congress as an LEIS to support the legislative request for extension of this withdrawal and reservation.

All military activities under consideration would be conducted within the existing boundaries of the installation, to include the withdrawn land. The Final LEIS evaluates the potential direct, indirect, and cumulative environmental and socioeconomic effects of the proposed action. Adverse effects would be minimized to the greatest extent possible through the implementation of specified avoidance, minimization, and mitigation measures.

The resource areas and effects analyzed in the Final LEIS include air quality, transportation, noise, water resources, geological resources, biological resources, cultural resources, utilities, land use, recreation, health and safety, hazardous materials, and waste. Resources may be affected by changing the scope or increasing the geographical area of military training activities within the current Fort Irwin boundaries. The analysis also considers the potential for cumulative environmental effects.

Both the Mission Change Alternatives and the No Mission Change Alternative would result in unavoidable environmental effects.

• No Mission Change Alternative: Under the No Mission Change Alternative, there would be less-than-significant effects on all evaluated resources. The mission change alternatives would result in minor to moderate adverse effects that would be in addition to the effects of the No Mission Change Alternative; however, none of the effects would be significant.

• Withdrawal Extension Alternative: The environmental effects from the Withdrawal Extension Alternative would be comparable to those discussed for the mission change alternatives.

• No Withdrawal Extension Alternative: While the effects of the No Withdrawal Extension Alternative are uncertain, because of the unknown future uses of these areas if Army training is not conducted on the land, it is expected that the No Withdrawal Extension Alternative would result in negligible effects on resources compared to the effects of the Withdrawal Extension Alternative.

Fort Irwin met its obligations to consult under Section 106 of the National Historic Preservation Act concurrently with this NEPA process through the development of a Programmatic Agreement in consultation with the State Historic Preservation Office, the Advisory Council on Historic Preservation, other government agencies, Native American Tribes, and the public. The Programmatic Agreement was completed on December 15, 2022 and is provided as an appendix to the Draft LEIS.

Fort Irwin has completed consultation under section 7 of the Endangered Species Act (ESA) with the U.S. Fish and Wildlife Service regarding the proposed activities. The biological opinion (BO) that resulted from this consultation was issued by the U.S. Fish and Wildlife Service on December 13, 2021, and concludes that the proposed actions are not likely to jeopardize the continued existence of endangered or threatened species. Consultation identified appropriate measures that are specified in the BO and that will be implemented by Fort Irwin to avoid or minimize effects of the activities. Fort Irwin will comply with the ESA and implement the measures that are specified in the BO. The BO is provided as an appendix to the Draft LEIS.

The Department of the Army considered all comments received on the Draft LEIS when preparing the Final LEIS. Based on the analysis in the Final LEIS, the Army's preferred alternative consists of: the full Mission Change Alternative with Alternative 4 applied to the Western Training Area; and a request that Congress extend the land withdrawal for 25 years, or for an indefinite period until there is no longer a military need for the land.

Federal, State, and local agencies, Native Americans, Native American organizations, and the public were invited to be involved in the public comment process for the Draft LEIS by submitting written comments. The Draft LEIS was published on May 21, 2021, and the comment period closed on July 6, 2021. The NEPA Process included two public meetings conducted telephonically on June 9, 2021. Responses to comments on the Draft EIS are included in an appendix to the Final EIS.

The BLM will organize public participation following the publication of its notice of application for extension of the public land withdrawal.

James W. Satterwhite Jr.,
Army Federal Register Liaison Officer.

[FR Doc. 2023-07321 Filed 4-6-23; 8:45 am]

BILLING CODE 3711-02-P